SECURITIES AND EXCHANGE COMMISSION

Sunshine Act Meeting.

FEDERAL REGISTER CITATION OF PREVIOUS ANNOUNCEMENT: To be published Monday, September 24, 2001.

STATUS: Open Meeting.

PLACE: 450 Fifth Street, NW., Washington, DC

TIME AND DATE OF PREVIOUSLY ANNOUNCED MEETING: September 25, 2001 at 1 p.m.

CHANGE IN THE MEETING: Additional Items.

The following items have been added to the open meeting scheduled for Tuesday, September 25, 2001, in Room 1C30, the William O. Douglas Room, at 1 p.m.:

(1) The Commission will consider extending the comment period for the Concept Release on the Effects of Decimal Trading in Subpennies. The Concept Release, which was published in the Federal Register on July 24, 2001, solicited the views of a wide range of commenters concerning the impact of subpenny price increments for quotations, orders, and trading stocks in a decimals environment. The original deadline for submitting public comment established by the Concept Release is September 24, 2001. Following the market disruption caused by the attacks of September 11, 2001, we have received requests to extend the original deadline.

For further information, please contact Kevin Campion, Special Counsel, Division of Market Regulations at (202) 942-0744.

(2) The Commission will consider extending the deadline for the Exchanges and the National Association of Securities Dealers, Inc. (collectively the “Participants”) to submit rule filings concerning the implementation of decimal pricing in equity securities and options pursuant to section 11A(a)(3)(B) of the Securities Exchange Act of 1934. The Commission's Order of May 22, 2001 required the Participants to submit rule filings to establish the minimum price variation in each market for quoting equity securities and options by November 5, 2001, we believe that it may be necessary and appropriate to extend the original deadline. Such an extension would give the Participants adequate time to thoroughly analyze the important investor protection and market integrity issues that need to be addressed in order to preserve the benefits of decimalization. Extending the deadline would also allow the Commission to fully consider the comments submitted in response to the Concept Release on the Effects of Decimal Trading in Subpennies.

For further information, please contact Alton Harvey, Office Head, Office of MarketWatch, Division of Market Regulation at (202) 942-4167 or Kevin Campion, Special Counsel, Division of Market Regulation at (202) 942-0744.

Commissioner Hunt, as duty officer, determined that Commission business required the above change and that no earlier thereof was possible.

At times, changes in Commission priorities require alterations in the scheduling of meeting items. For further information and to ascertain what, if any, matters have been added, deleted or postponed, please contact: The Office of the Secretary (202) 942-7070.

Dated: September 21, 2001.
Jonathan G. Katz,
Secretary.

[FR Doc. 01-24050 Filed 9-21-01; 12:14 pm]

BILLING CODE 8010-01-M